DEPARTMENT OF THE TREASURY

Office of Foreign Assets Control

Unblocking of Specially Designated National, Liberia Program

AGENCY: Office of Foreign Assets Control, Treasury.

ACTION: Notice.

SUMMARY: The Treasury Department's Office of Foreign Assets Control (“OFAC”) is publishing the name of one person whose property and interests in property have been unblocked pursuant to Executive Order 13348 of July 22, 2004, Blocking Property of Certain Persons and Prohibiting the Importation of Certain Goods from Liberia, and pursuant to 31 CFR 501.807.

DATES: The unblocking and removal from the list of Specially Designated Nationals and Blocked Persons by the Secretary of the Treasury of the person identified in this notice whose property and interests in property were blocked pursuant to Executive Order 13348 of July 22, 2004, occurred on June 12, 2006.

FOR FURTHER INFORMATION CONTACT: Jennifer Houghton, Assistant Director, Designation Investigations, Office of Foreign Assets Control, Department of the Treasury, Washington, DC 20220, tel.: 202/622-2420.

SUPPLEMENTARY INFORMATION:

Electronic and Facsimile Availability

This document and additional information concerning OFAC are available from OFAC's Web site (http://www.treas.gov/ofac) or via facsimile through a 24-hour fax-on demand service, tel.: (202) 622-0077.

Background

On July 22, 2004, President Bush issued Executive Order 13348 (“the order” or “EO 13348”), finding that the actions and policies of former Liberian President Charles Taylor and other persons, in particular their unlawful depletion of Liberian resources and their removal from Liberia, undermined Liberia's transition to democracy, the orderly development of Liberia's political, administrative, and economic institutions and resources, and fueled and exacerbated other conflicts throughout West Africa. The President found that the actions, policies, and circumstances described above constituted an unusual and extraordinary threat to the foreign policy of the United States and declared a national emergency to deal with that threat.

The order included 28 persons in the Annex, which resulted in the blocking of all property or interests in property of these persons that was or thereafter came within the United States or the possession or control of U.S. persons. The order authorizes the Secretary of the Treasury, in consultation with the Secretary of State, to designate additional persons or entities determined to meet certain criteria set forth in EO 13348.

The order also authorizes the Secretary of the Treasury, in consultation with the Secretary of State, to determine that circumstances no longer warrant the inclusion of a person in the Annex to EO 13348 and to unblock any property or interests in property that had been blocked as a result of the person's inclusion in the Annex.

On June 12, 2006, the Acting Director of OFAC, in consultation with the State Department, removed from the Annex and list of Specially Designated Nationals and Blocked Persons the person listed below, whose property and interests in property were blocked pursuant to EO 13348.

The list of the unblocked person follows:

1. Abbas Fawaz

Dated: July 18, 2006.
Barbara C. Hammerle,
Acting Director, Office of Foreign Assets Control.

[FR Doc. E6-11798 Filed 7-24-06; 8:45 am]

BILLING CODE 4811-37-P